ENVIRONMENTAL PROTECTION AGENCY

[EPA-HQ-OPP-2024-0093; FRL-12044-01-OCSPP]

Cancellation Order for Certain Pesticide Registrations and/or Amendments To Terminate Uses

AGENCY: Environmental Protection Agency (EPA).

ACTION: Notice.

SUMMARY: This notice announces EPA's order for the cancellations and/or amendments to terminate uses, voluntarily requested by the registrants, and accepted by the Agency, pursuant to the Federal Insecticide, Fungicide, and Rodenticide Act (FIFRA). This cancellation order follows a May 7, 2024, Federal Register Notice of Receipt of Requests from the registrants listed in Table 3 of Unit II, to voluntarily cancel and/or amend to terminate uses of these product registrations. In the May 7, 2024, notice, EPA indicated that it would issue an order implementing the cancellations and/or amendments to terminate uses, unless the Agency received substantive comments within the 30-day comment period that would merit its further review of these requests, or unless the registrants withdrew their requests. The Agency did not receive any comments on the notice. Further, the registrant for product registration 4-474 withdrew their request for cancellation; therefore, the registration has been removed from this order. Accordingly, EPA hereby issues in this notice a cancellation order granting the requested cancellations and/or amendments to terminate uses. Any distribution, sale, or use of the products subject to this cancellation order is permitted only in accordance with the terms of this order, including any existing stocks provisions.

DATES: The cancellations and/or amendments are effective July 16, 2024.

FOR FURTHER INFORMATION CONTACT: Christopher Green, Registration Division (7505T), Office of Pesticide Programs, Environmental Protection Agency, 1200 Pennsylvania Ave., NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2024-0093, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What action is the Agency taking?

This notice announces the cancellations and/or amendments to terminate uses, as requested by registrants, of products registered under FIFRA section 3 (7 U.S.C. 136a). These registrations are listed in sequence by registration number in Tables 1 and 2 of this unit.

Table 1—Product Cancellations
Registration No. | Company No. | Product name | Active ingredients
4-473 | 4 | Bonide Garden Dust | Basic copper sulfate (008101/1344-73-6)—(5%), Pyrethrins (069001/8003-34-7)—(.03%), Sulfur (077501/7704-34-9)—(25%).
100-1441 | 100 | Bravo Top | Chlorothalonil (081901/1897-45-6)—(40%), Difenoconazole (128847/119446-68-3)—(4%).
228-423 | 228 | DQD Selective Herbicide | 2,4-D, dimethylamine salt (030019/2008-39-1)—(25.4%), Dicamba (029801/1918-00-9)—(2.64%), Quinclorac (128974/84087-01-4)—(7.91%).
228-594 | 228 | Quincept Herbicide Ready to Use | 2,4-D, dimethylamine salt (030019/2008-39-1)—(.331%), Dicamba (029801/1918-00-9)—(.034%), Quinclorac (128974/84087-01-4)—(.206%).
228-703 | 228 | Quincept LT Herbicide Ready-to-Use | 2,4-D (030001/94-75-7)—(.331%), Dicamba (029801/1918-00-9)—(.034%), Quinclorac (128974/84087-01-4)—(.137%).
228-704 | 228 | Quincept LT Herbicide Premium Lawn Weed Killer Concentrate | 2,4-D (030001/94-75-7)—(6.557%), Dicamba (029801/1918-00-9)—(.681%), Quinclorac (128974/84087-01-4)—(2.724%).
228-705 | 228 | NUP-09066 Herbicide | 2,4-D (030001/94-75-7)—(13.2%), Dicamba (029801/1918-00-9)—(1.38%), Quinclorac (128974/84087-01-4)—(5.5%).
228-706 | 228 | Quincept LT MC | 2,4-D (030001/94-75-7)—(13.2%), Dicamba (029801/1918-00-9)—(1.38%), Quinclorac (128974/84087-01-4)—(5.5%).
279-3372 | 279 | FMC Mop Up | Boron sodium oxide (B8Na2O13), tetrahydrate (12280-03-4) (011103/12280-03-4)—(98%).
279-3384 | 279 | Roach Kil Commercial | Boric acid (011001/10043-35-3)—(99%).
279-3385 | 279 | DRAX Ant Kill Gel | Boric acid (011001/10043-35-3)—(5%).
279-3386 | 279 | DRAX Ant Kil-PF | Boric acid (011001/10043-35-3)—(5%)
279-3387 | 279 | Aerosol Boric Acid | Boric acid (011001/10043-35-3)—(20%).
279-3398 | 279 | DRAX Roach Assault SWT | Boric acid (011001/10043-35-3)—(50%).
279-3399 | 279 | DRAX Liquid Ant Killer II SWT | Boric acid (011001/10043-35-3)—(1%).
279-3400 | 279 | DRAX Granular Bait with Boric Acid & Nylar | Boric acid (011001/10043-35-3)—(1%), Pyriproxyfen (129032/95737-68-1)—(.25%).
279-3402 | 279 | DRAX Bait Station | Boric acid (011001/10043-35-3)—(5%).
279-3403 | 279 | DRAX—PF Bait Station | Boric acid (011001/10043-35-3)—(5%).
279-3565 | 279 | Edition BroadSpec Herbicide | Thifensulfuron (128845/79277-27-3)—(25%), Tribenuron-methyl (128887/101200-48-0)—(25%).
279-3576 | 279 | Solida Herbicide | Rimsulfuron (129009/122931-48-0)—(25%).
352-938 | 352 | Fexapan Plus Vaporgrip Technology | Dicamba, diglycolamine salt (128931/104040-79-1)—(42.8%).
499-535 | 499 | LX417 Lambda-Cyhalothrin | Lambda-Cyhalothrin (128897/91465-08-6)—(9.7%).
4822-607 | 4822 | Lauda | 1-Decanaminium, N,N-dimethyl-N-octyl-, chloride (069165/32426-11-2)—(.072%), 1-Decanaminium, N-decyl-N,N-dimethyl-, chloride (069149/7173-51-5)—(.036%), 1-Octanaminium, N,N-dimethyl-N-octyl-, chloride (069166/5538-94-3)—(.036%), Alkyl* dimethyl benzyl ammonium chloride *(50%C14, 40%C12, 10%C16) (069105/68424-85-1)—(.096%).
42750-253 | 42750 | Captan 4L ST | Captan (081301/133-06-2)—(38.75%).
67979-38 | 67979 | BT11 X MIR162 X MIR604 and BT11 X MIR604 Corn | Bacillus thuringiensis CryIA(b) delta-endotoxin and the genetic material necessary for its production (plasmid vector pZ01502) in corn, when used as a plant pesticide in all raw agricultural commodities of field corn, sweet corn and popcorn. (006461/)—(.001829%), Bacillus thuringiensis Vip3Aa20 protein encoded by vector pNOV1300 in event MIR162 corn (SYN-IR162-4), % dw (006599/)—(.0088%), Modified Cry3A protein and the genetic material necessary for its production (via elements of pZM26) in Event MIR604 corn (006509/)—(.002757%).
67979-39 | 67979 | BT11 X MIR604 X TC1507 X 5307 and BT11 X MIR162 X MIR604 X TC1507 X 5307 5% Refuge Seed Blend Corn | Bacillus Thuringiensis eCry3.1Ab protein and the genetic material necessary for its production (vector pSYN12274) in Event 5307 corn (SYN-05307-1) (016483/)—(.00261%), Bacillus thuringiensis Cry1F protein and the genetic material necessary for its production (plasmid insert PHI8999) in corn (006481/)—(.00122%), Bacillus thuringiensis CryIA(b) delta-endotoxin and the genetic material necessary for its production (plasmid vector pZ01502) in corn, when used as a plant pesticide in all raw agricultural commodities of field corn, sweet corn and popcorn. (006461/)—(.00495%), Bacillus thuringiensis Vip3Aa20 protein encoded by vector pNOV1300 in event MIR162 corn (SYN-IR162-4), % dw (006599/)—(.00431%), Modified Cry3A protein and the genetic material necessary for its production (via elements of pZM26) in Event MIR604 corn (006509/)—(.0006%).
71771-12 | 71771 | PHC-91398 | Ea peptide 91398 (005200/)—(1%).
71840-14 | 71840 | Tricho Plus Biofungicide | Trichoderma asperelloides strain JM41R (119000/)—(5.5%).
71840-15 | 71840 | Trichoderma Asperelloides Strain JM41R Technical | Trichoderma asperelloides strain JM41R (119000/)—(100%).
89635-4 | 89635 | KM1110 WDG | Metschnikowia fructicola NRRL Y-27328 (012244/)—(58.5%).
91234-369 | 91234 | X1110.28 | Chlorantraniliprole (090100/500008-45-7)—(47.85%).
93653-5 | 93653 | ZS 2,4-D Technical | 2,4-D (030001/94-75-7)—(98.5%).
AR-070008 | 279 | Spartan 4F | Sulfentrazone (129081/122836-35-5)—(39.6%).
ID-180005 | 10163 | Magister SC Miticide | Fenazaquin (044501/120928-09-8)—(18.79%).
KS-150002 | 352 | Dupont Realm Q Herbicide | Mesotrione (122990/104206-82-8)—(31.25%), Rimsulfuron (129009/122931-48-0)—(7.5%).
LA-150005 | 352 | Dupont Realm Q Herbicide | Mesotrione (122990/104206-82-8)—(31.25%), Rimsulfuron (129009/122931-48-0)—(7.5%).
MN-120004 | 279 | AIM EC | Carfentrazone-ethyl (128712/128639-02-1)—(22.3%).
OR-100009 | 279 | Dupont Coragen Insect Control | Chlorantraniliprole (090100/500008-45-7)—(18.4%).
OR-130012 | 19713 | Drexel Captan 4 Flowable Seed Protectant | Captan (081301/133-06-2)—(37.99%).
OR-170004 | 279 | Dupont Verimark Insect Control | Cyantraniliprole (090098/736994-63-1)—(18.66%).
OR-180011 | 33906 | Quintec | Quinoxyfen (055459/878790-59-1)—(22.58%).
OR-220008 | 68506 | UVASYS | Sodium metabisulfite (111409/7681-57-4)—(36.5%).
OR-960025 | 10163 | Beacon Herbicide | Primisulfuron-methyl (128973/86209-51-0)—(75%).
TN-140002 | 352 | Dupont Realm Q Herbicide | Mesotrione (122990/104206-82-8)—(31.25%), Rimsulfuron (129009/122931-48-0)—(7.5%).
TX-180006 | 70506 | Comite II | Propargite (097601/2312-35-8)—(69.6%).
TX-180007 | 70506 | Terrazole 4EC | Etridiazole (084701/2593-15-9)—(44.3%).
TX-220004 | 71512 | Tiafenacil 339SC Herbicide | Tiafenacil (012311/1220411-29-9)—(30%).
VA-150005 | 279 | F6482 45DF Herbicide | Metribuzin (101101/21087-64-9)—(27%), Sulfentrazone (129081/122836-35-5)—(18%).
WI-190002 | 10163 | Sonalan HFP | Ethalfluralin (113101/55283-68-6)—(35.4%).

Table 2—Product Registration Amendments To Terminate Uses
Registration No. | Company No. | Product name | Active ingredient | Uses to be terminated
1021-1682 | 1021 | Multicide Intermediate 2738 | Cyphenothrin (129013/39515-40-7)—(13.34%), MGK 264 (057001/113-48-4)—(12.77%), Prallethrin (128722/23031-36-9)—(1%) | Human Article use.
1021-1770 | 1021 | Evergreen Crop Protection EC 60-6 | Piperonyl butoxide (067501/51-03-6)—(60%), Pyrethrins (069001/8003-34-7)—(6%) | Residential space spray use.
39967-128 | 39967 | N-2050-PG Antimicrobial | Dodecylguanidine hydrochloride (044303/13590-97-1)—(35%) | Sewage disposal lagoon use.
42750-230 | 42750 | Captan Technical | Captan (081301/133-06-2)—(95.9%) | Seed treatment use.
85678-13 | 85678 | Captan 4L | Captan (081301/133-06-2)—(37.7%) | Seed treatment use.
98985-6 | 98985 | Ike's Pest Killer | Bifenthrin (128825/82657-04-3)—(7.9%) | Pet Kennels and Indoor use for Hornets and Yellow Jackets.

Table 3 of this unit includes the names and addresses of record for all registrants of the products in Tables 1 and 2 of this unit, in sequence by EPA company number. This number corresponds to the first part of the EPA registration numbers of the products listed above.

Table 3—Registrants of Cancelled and/or Amended Products
EPA Company No. | Company name and address
4 | Bonide Products, LLC, 6301 Sutliff Road, Oriskany, NY 13424.
100 | Syngenta Crop Protection, LLC, 410 Swing Road, P.O. Box: 18300, Greensboro, NC 27419-8300.
228 | NuFarm Americas, Inc., Agent Name: NuFarm Americas, Inc., 4020 Aerial Center Pkwy., Ste. 101, Morrisville, NC 27560.
279 | FMC Corporation, 2929 Walnut Street, Philadelphia, PA 19104.
352 | Corteva Agriscience, LLC, 9330 Zionsville Road, Indianapolis, IN 46268.
499 | BASF Corporation, 26 Davis Drive, P.O. Box: 13528, Research Triangle Park, NC 27709-3528.
1021 | McLaughlin Gormley King Company D/B/A MGK, 7325 Aspen Lane N, Minneapolis, MN 55428.
4822 | S.C. Johnson & Son, Inc., 1525 Howe Street, Racine, WI 53403.
10163 | Gowan Company, LLC, 370 S. Main St., Yuma, AZ 85366.
19713 | Drexel Chemical Company, P.O. Box: 13327, Memphis, TN 38113-0327.
33906 | Nissan Chemical Corporation, Agent Name: Lewis & Harrison, LLC, 2461 South Clark Street, Suite 710, Arlington, VA 22202.
39967 | Lanxess Corporation, 111 RIDC Park West Drive, Pittsburgh, PA 15275-1112.
42750 | Albaugh, LLC, 1525 NE 36th Street, Ankeny, IA 50021.
67979 | Syngenta Seeds, LLC—Field Crops—NAFTA, 9 Davis Drive, Research Triangle Park, NC 27709.
68506 | Tessara (PTY) Ltd., Agent Name: Pyxis Regulatory Consulting, Inc., 4110 136th St. Ct., NW, Gig Harbor, WA 98332.
70506 | MacDermid Agricultural Solutions, Inc., Agent Name: UPL NA, Inc., 630 Freedom Business Center, Suite 402, King Of Prussia, PA 19406.
71512 | ISK Biosciences Corporation, 7470 Auburn Road, Suite A, Concord, OH 44077.
71771 | Plant Health Care, Inc., Agent Name: Ramboll, 4245 North Fairfax Drive, Suite 700, Arlington, VA 22203.
71840 | BASF Corporation, 26 Davis Drive, P.O. Box: 13528, Research Triangle Park, NC 27709.
85678 | RedEagle International, LLC, Agent Name: Wagner Regulatory Associates, Inc., 7217 Lancaster Pike, Suite A, P.O. Box: 640, Hockessin, DE 19707.
89635 | Koppert Biological Systems, Inc., 1502 Old US 23, Howell, MI 48843.
91234 | Atticus, LLC, Agent Name: Pyxis Regulatory Consulting, Inc., 4110 136th Street Ct., NW, Gig Harbor, WA 98332-9122.
93653 | ZSChem USA, Inc., Agent Name: Pyxis Regulatory Consulting, Inc., 4110 136th Street Ct., NW, Gig Harbor, WA 98332.
98985 | Ike's, LLC, Agent Name: Wagner Regulatory Associates, 7217 Lancaster Pike, Suite A, P.O. Box: 640, Hockessin, DE 19707.

III. Summary of Public Comments Received and Agency Response to Comments

During the public comment period provided, EPA received no comments in response to the May 7, 2024, Federal Register notice announcing the Agency's receipt of the requests for voluntary cancellations and/or amendments to terminate uses of the products listed in Tables 1 and 2 of Unit II.

IV. Cancellation Order

Pursuant to FIFRA section 6(f) (7 U.S.C. 136d(f)(1)), EPA hereby approves the requested cancellations and/or amendments to terminate uses of pesticide registrations identified in Tables 1 and 2 of Unit II. Accordingly, the Agency hereby orders that the product registrations identified in Tables 1 and 2 of Unit II, are canceled and/or amended to terminate the affected uses. The effective date of the cancellations that are subject of this notice is July 16, 2024. Any distribution, sale, or use of existing stocks of the products identified in Tables 1 and 2 of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of May 7, 2024 (89 FR 38126) (FRL-11877-01-OCSPP). The comment period closed on June 6, 2024.

VI. Provisions for Disposition of Existing Stocks

Existing stocks are those stocks of registered pesticide products which are currently in the United States, and which were packaged, labeled, and released for shipment prior to the effective date of the action. The existing stocks provision for the products subject to this order is as follows.

For: 352-938:

For 352-938, Corteva, the registrant of the product subject to this cancellation order, did not request that EPA allow the continued sale, distribution, or use of existing stocks of this product. Additionally, Corteva confirmed that they ceased selling this product in 2021. Thus, all sale, distribution, and use of existing stocks of this product is prohibited, except for the sale or distribution of this product for export consistent with FIFRA section 17 (7 U.S.C. 136o) and for proper disposal.

For all other voluntary cancellations listed in Table 1 of Unit II, the registrants may continue to sell and distribute existing stocks of all other products listed in Table 1 until July 16, 2025, which is 1 year after publication of this cancellation order in the Federal Register. Thereafter, the registrants are prohibited from selling or distributing all other products listed in Table 1 of Unit II, except for export in accordance with FIFRA section 17 (7 U.S.C. 136o) or for proper disposal.

Now that EPA has approved product labels reflecting the requested amendments to terminate uses, registrants are permitted to sell or distribute products listed in Table 2 of Unit II, under the previously approved labeling until January 16, 2026, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and/or products whose labels include the terminated uses until supplies are exhausted, provided that such sale, distribution, or use is consistent with the terms of the previously approved labeling on, or that accompanied, the canceled products and/or terminated uses.

Authority: 7 U.S.C. 136 et seq.

Dated: July 10, 2024.
Charles Smith,
Director, Registration Division, Office of Pesticide Programs.

[FR Doc. 2024-15554 Filed 7-15-24; 8:45 am]

BILLING CODE 6560-50-P